LEGAL SERVICES CORPORATION

Notice of Availability of Funding for Pro Bono Innovation Fund Grants and Letter of Intent to Apply Process

AGENCY: Legal Services Corporation.

ACTION: Notice.

SUMMARY: The Legal Services Corporation (LSC) provides grants of federally-appropriated funds for civil legal services to low-income individuals and families. LSC is making available up to $3.8 million for Pro Bono Innovation Fund grants commencing in October 2015. Current recipients of LSC funding may submit a Letter of Intent to Apply for these funds.

DATES: The deadline to submit a Letter of Intent to Apply is 5:00 p.m., Eastern Time, on February 23, 2015.

ADDRESSES: Office of Program Performance, Legal Services Corporation, 3333 K Street, NW., Third Floor, Washington, DC 20007-3522.

FOR FURTHER INFORMATION CONTACT: For more information about current Pro Bono Innovation Fund projects, please contact Mytrang Nguyen, Program Counsel, (202) 295-1564 or nguyenm@lsc.gov. For general questions about the Pro Bono Innovation Fund application process, please email probonoinnovation@lsc.gov. For technical questions or issues with the LSC Grants online application system, please email techsupport@lsc.gov.

SUPPLEMENTARY INFORMATION: The Legal Services Corporation (LSC) provides grants of federally-appropriated funds for civil legal services to low-income individuals and families. 42 U.S.C. 2996 et seq. LSC offers Pro Bono Innovation Fund grants to develop and enhance pro bono programs that serve larger numbers of low-income clients and that improve the quality and effectiveness of the services clients receive. Projects should be innovative (new, replicable models and approaches to pro bono delivery) or replicate prior successful models. The Pro Bono Innovation Fund is designed to address issues identified in the 2012 report of LSC's Pro Bono Task Force, which is available at http://bit.ly/LSCPBTF-Report.

LSC is making available up to $3.8 million for Pro Bono Innovation Fund grants commencing in October 2015. Current recipients of LSC funding with Basic Field—General, Basic Field—Migrant, or Basic Field—Native American grants may submit a Letter of Intent to Apply for these funds. The Request for Letters of Intent to Apply for 2015 Grant Funding with instructions and application guidelines will be posted on January 23, 2015, at http://grants.lsc.gov/apply-for-funding/pro-bono-innovation-fund.

Dated: January 16, 2015.
Atitaya C. Rok,
Assistant General Counsel.

[FR Doc. 2015-00981 Filed 1-21-15; 8:45 am]

BILLING CODE 7050-01-P